ENVIRONMENTAL PROTECTION AGENCY

[FRL-7243-7]

EPA Science Advisory Board Notification of a Change in Public Advisory Committee Meeting of the SAB Executive Committee; Cancellation and Re-scheduling

Pursuant to the Federal Advisory Committee Act, Public Law 92-463, notice is hereby given that the meeting of the U.S. EPA Science Advisory Board (SAB) Executive Committee scheduled for July 16-17, 2002, and previously announced in 67 FR 41722, June 19, 2002, has been cancelled.. It will be re-scheduled at a later date. Instead, a Teleconference meeting of the Executive Committee will take place as noted below.

1. Executive Committee of the EPA Science Advisory Board—July 16, 2002—Teleconference Meeting

The Executive Committee (EC) of the U.S. EPA Science Advisory Board (SAB) will meet via public teleconference on Tuesday, July 16, 2002. The meeting will be hosted out of in a publicly accessible conference call convened in the SAB Conference Room (Room 6013, U.S. EPA, Ariel Rios Building, 1200 Pennsylvania Avenue, NW., Washington, DC 20004). The meeting will begin at 11 a.m. and adjourn no later than 2 pm Eastern Time. This meeting is open to the public; however, seating is limited and available on a first come basis. Information on how to access the meeting via conference call is available from Ms. Diana Pozun (see contact information below).

Purpose of the Meeting—To discuss matters of Board business, including discussion of the following: (a) Proposed projects for SAB action in FY2003; (b) Executive Committee Structure; and (c) a briefing on a proposed consultation on data reproducibility as a feature of information disseminated by the Agency.

FOR FURTHER INFORMATION: The agenda for the meeting will be posted on the SAB Website (http://www.epa.gov/sab) no later than one week prior to the meeting. Members of the public wishing a written agenda or roster of the EC may obtain these from the SAB website, or from Ms. Diana Pozun, Program Specialist, EPA Science Advisory Board (1400A), Suite 6450, U.S. EPA, 1200 Pennsylvania Avenue, NW., Washington, DC 20460; telephone/voice mail at (202) 564-4533; fax at (202) 501-0323; or via e-mail at pozun.diana@epa.gov. Any member of the public wishing further information concerning this meeting must contact Mr. Robert Flaak, Designated Federal Officer, EPA Science Advisory Board (1400A), U.S. Environmental Protection Agency, 1200 Pennsylvania Avenue, NW., Washington, DC 20460; telephone (202) 564-4546; FAX (202) 501-0323; or via e-mail at flaak.robert@epa.gov.

Providing Oral or Written Comments at SAB Meetings

It is the policy of the EPA Science Advisory Board to accept written public comments of any length, and to accommodate oral public comments whenever possible. The EPA Science Advisory Board expects that public statements presented at its meetings will not be repetitive of previously submitted oral or written statements. Oral Comments: In general, each individual or group requesting an oral presentation at a face-to-face meeting will be limited to a total time of ten minutes (unless otherwise indicated). For teleconference meetings, opportunities for oral comment will usually be limited to no more than three minutes per speaker and no more than fifteen minutes total. Deadlines for getting on the public speaker list for a meeting are given above. Speakers should bring at least 35 copies of their comments and presentation slides for distribution to the reviewers and public at the meeting. Written Comments: Although the SAB accepts written comments until the date of the meeting (unless otherwise stated), written comments should be received in the SAB Staff Office at least one week prior to the meeting date so that the comments may be made available to the committee for their consideration. Comments should be supplied to the appropriate DFO at the address/contact information noted above in the following formats: One hard copy with original signature, and one electronic copy via e-mail (acceptable file format: Adobe Acrobat, WordPerfect, Word, or Rich Text files (in IBM-PC/Windows 95/98 format). Those providing written comments and who attend the meeting are also asked to bring 35 copies of their comments for public distribution.

General Information—Additional information concerning the EPA Science Advisory Board, its structure, function, and composition, may be found on the SAB Website (http://www.epa.gov/sab) and in The FY2001 Annual Report of the Staff Director which is available from the SAB Publications Staff at (202) 564-4533 or via fax at (202) 501-0256. Committee rosters, draft Agendas and meeting calendars are also located on our website.

Meeting Access—Individuals requiring special accommodation at this meeting, including wheelchair access to the conference room, should contact the appropriate DFO at least five business days prior to the meeting so that appropriate arrangements can be made.

Dated: June 28, 2002.
Vanessa T. Vu,
Director, EPA Science Advisory Board.

[FR Doc. 02-17236 Filed 7-9-02; 8:45 am]

BILLING CODE 6560-50-P